DEPARTMENT OF HOUSING AND URBAN DEVELOPMENT

[Docket No. FR-5300-N-26]

Notice of Availability: Notice of Funding Availability (NOFA) for Fiscal Year (FY) 2009 Doctoral Dissertation Research Grant Program

AGENCY: Office of the Assistant Secretary for Policy Development and Research, HUD.

ACTION: Notice.

SUMMARY: HUD announces the availability on its Web site of the application information, submission deadlines, funding criteria, and other requirements for the FY2009 Doctoral Dissertation Research Grant NOFA for FY(2009). Approximately $200,000 is made available through this NOFA, by the Department of Housing and Urban Development Appropriations Act, 2009 (Pub. L. 111-8, approved March 11, 2009), to enable doctoral candidates enrolled at institutions of higher education accredited by a national or regional accrediting agency recognized by the U.S. Department of Education to complete their dissertations on policy-relevant housing and urban development issues. The notice providing information regarding the application process, funding criteria and eligibility requirements is available on the Grants.gov Web site at http://apply07.grants.gov/apply/forms_apps_idx.html. A link to Grants.gov is also available on the HUD Web site at http://www.hud.gov/offices/adm/grants/fundsavail.cfm. The Catalogue of Federal Domestic Assistance (CFDA) number for the Doctoral Dissertation Research Grant Program is 14.516. Applications must be submitted electronically through Grants.gov.

FOR FURTHER INFORMATION CONTACT: For information concerning the Doctoral Dissertation Research Grant program, contact Susan Brunson, Office of University Partnerships, Office of Policy Development and Research, Department of Housing and Urban Development, 451 Seventh Street, SW., Room 8226, Washington DC 20410; telephone 202-402-3852 (this is not a toll-free number). Persons with speech or hearing impairments may access this telephone number via TTY by calling the toll-free Federal Information Relay Service during working hours at 800-877-8339.

Dated: June 15, 2009.
Jean Lin Pao,
General Deputy Assistant Secretary for Policy Development and Research.

[FR Doc. E9-16709 Filed 7-10-09; 11:15 am]

BILLING CODE 4210-67-P